DEPARTMENT OF ENERGY

Federal Energy Regulatory Commission

Combined Notice of Filings

Take notice that the Commission has received the following Natural Gas Pipeline Rate and Refund Report filings:

Filings Instituting Proceedings

Docket Numbers: PR15-34-001.

Applicants: Bridgeline Holdings, L.P.

Description: Submits tariff filing per 284.123(b), (e), (g): Rate Petition Filing 5-28-15 to be effective 4/1/2015; Filing Type: 1270.

Filed Date: 5/28/15.

Accession Number: 20150528-5112.

Comments Due: 5 p.m. ET 6/18/15.

284.123(g) Protests Due: 5 p.m. ET 6/18/15.

Docket Numbers: RP15-1026-000.

Applicants: Maritimes & Northeast Pipeline, L.L.C.

Description: § 4(d) rate filing per 154.312: Maritimes & Northeast Pipeline, L.L.C. Section 4 Rate Case Filing to be effective 7/1/2015.

Filed Date: 5/29/15.

Accession Number: 20150529-5464.

Comments Due: 5 p.m. ET 6/10/15.

Docket Numbers: RP10-147-000.

Applicants: Natural Gas Pipeline Company of America.

Description: Cost and Revenue Study of Natural Gas Pipeline Company of America LLC.

Filed Date: 6/1/15.

Accession Number: 20150601-5438.

Comments Due: 5 p.m. ET 6/15/15.

Docket Numbers: RP15-1042-000.

Applicants: Alliance Pipeline L.P.

Description: § 4(d) rate filing per 154.204: June 5—30 2015 Auction to be effective 6/2/2015.

Filed Date: 6/2/15.

Accession Number: 20150602-5070.

Comments Due: 5 p.m. ET 6/15/15.

Docket Numbers: RP15-1043-000.

Applicants: Rockies Express Pipeline LLC.

Description: § 4(d) rate filing per 154.204: Neg Rate 2015-06-02 Encana to be effective 6/2/2015.

Filed Date: 6/2/15.

Accession Number: 20150602-5104.

Comments Due: 5 p.m. ET 6/15/15.

Docket Numbers: RP15-1044-000.

Applicants: Algonquin Gas Transmission, LLC.

Description: § 4(d) rate filing per 154.204: GT&C Points of Receipt and Delivery to be effective 7/1/2015.

Filed Date: 6/2/15.

Accession Number: 20150602-5160.

Comments Due: 5 p.m. ET 6/15/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2015.
Nathaniel J. Davis, Sr.,
Deputy Secretary.

[FR Doc. 2015-14388 Filed 6-11-15; 8:45 am]

BILLING CODE 6717-01-P